DEPARTMENT OF HOMELAND SECURITY

Transportation Security Administration

Intent To Request Revision From OMB of One Current Public Collection of Information: Critical Facility Information of the Top 100 Most Critical Pipelines

AGENCY: Transportation Security Administration, DHS.

ACTION: 60-Day notice.

SUMMARY: The Transportation Security Administration (TSA) invites public comment on one currently approved Information Collection Request (ICR), Office of Management and Budget (OMB) control number 1652-0050, abstracted below that we will submit to OMB for a revision in compliance with the Paperwork Reduction Act (PRA). The ICR describes the nature of the information collection and its expected burden. In accordance with the Implementing Recommendations of the 9/11 Commission Act of 2007 (9/11 Act), which required TSA to develop and implement a plan to inspect critical pipeline systems, TSA is seeking to continue its collection of critical facility security information.

DATES: Send your comments by June 7, 2021.

ADDRESSES: Comments may be emailed to TSAPRA@dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0050; Critical Facility Information of the Top 100 Most Critical Pipelines: The 9/11 Act specifically tasked TSA to develop and implement a plan for reviewing the pipeline security plans and inspecting the critical facilities of the 100 most critical pipeline systems.¹ Pipeline operators have determined which facilities qualify as critical facilities based on guidance and criteria set forth in the TSA Pipeline Security Guidelines published in April 2011 and revised in April 2018. To execute the 9/11 Act mandate, TSA visits critical pipeline facilities and collects site-specific information from pipeline operators on facility security policies, procedures, and physical security measures.

¹ See sec. 1557 of the 9/11 Act (Pub. L. 110-53, 121 Stat. 266, 475, Aug. 3, 2007), codified at 6 U.S.C. 1207.

TSA is seeking OMB approval to continue to collect facility security information during the site visits using a Critical Facility Security Review (CFSR) form. The CFSR will look at individual pipeline facility security measures and procedures.² This collection is voluntary. Information collected from the reviews will be analyzed and used to determine strengths and weaknesses at the nation's critical pipeline facilities, areas to target for risk reduction strategies, pipeline industry implementation of the voluntary guidelines, and the potential need for regulations in accordance with the 9/11 Act provision previously cited.

² The CFSR differs from a Corporate Security Review (CSR) conducted by TSA in another pipeline information collection that looks at corporate or company-wide security management plans and practices. See OMB Control No. 1652-0056 at https://www.reginfo.gov for the PRA approval of information collection for pipeline CSRs.

TSA is also seeking OMB approval to continue its follow up procedure with pipeline operators on their implementation of security improvements and recommendations made during facility visits. During critical facility visits, TSA documents and provides recommendations to improve the security posture of the facility. TSA intends to continue to follow up with pipeline operators via email on their status toward implementation of the recommendations made during the critical facility visits. The follow up will be conducted at intervals of 6, 12, and 18 months after the facility visit.

TSA is revising the information collection to align the CFSR question set with the revised Pipeline Security Guidelines, and to capture additional criticality criteria. As a result, the question set has been edited by removing, adding and rewriting several questions, to meet the Pipeline Security Guidelines and criticality needs. Further, TSA is moving the collection instrument from a PDF format to an Excel Workbook format.

The information provided by operators for each information collection is Sensitive Security Information (SSI), and it will be protected in accordance with procedures meeting the transmission, handling, and storage requirements of SSI set forth in 49 CFR parts 15 and 1520.

The annual burden for the approval of the information collection related to the CFSR form is estimated to be 320 hours. TSA will conduct a maximum of 80 facility reviews each year, with each review taking approximately 4 hours (80 × 4).

The annual burden for the approval of the information collection related to the follow up on the recommendations made to facility operators is estimated to be 480 hours. TSA estimates each operator will spend approximately 2 hours to submit a response to TSA regarding its voluntary implementation of security recommendations made during each critical facility visit. If a maximum of 80 critical facilities are reviewed each year, and TSA follows up with each facility operator every 6, 12, and 18 months following the visit, the total annual burden is 4800 (80 × 2 × 3) hours.

The estimated number of respondents will be 80. The total estimated burden is 800 hours annually, 320 hours for the CFSR form, plus 480 hours for the recommendations follow-up procedure.

Dated: April 2, 2021.
Christina A. Walsh,
TSA Paperwork Reduction Act Officer, Information Technology.

[FR Doc. 2021-07191 Filed 4-7-21; 8:45 am]

BILLING CODE 9110-05-P